NATIONAL ARCHIVES AND RECORDS ADMINISTRATION

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before December 7, 2012. Once the appraisal of the records is completed, NARA will send a copy of the schedule. NARA staff usually prepare appraisal memorandums that contain additional information concerning the records covered by a proposed schedule. These, too, may be requested and will be provided once the appraisal is completed. Requesters will be given 30 days to submit comments.

ADDRESSES: You may request a copy of any records schedule identified in this notice by contacting Records Management Services (ACNR) using one of the following means:

Mail: NARA (ACNR), 8601 Adelphi Road, College Park, MD 20740-6001.

Email: request.schedule@nara.gov.

Fax: 301-837-3698.

Requesters must cite the control number, which appears in parentheses after the name of the agency which submitted the schedule, and must provide a mailing address. Those who desire appraisal reports should so indicate in their request.

FOR FURTHER INFORMATION CONTACT: Margaret Hawkins, Director, Records Management Services (ACNR), National Archives and Records Administration, 8601 Adelphi Road, College Park, MD 20740-6001. Telephone: 301-837-1799. Email: request.schedule@nara.gov.

SUPPLEMENTARY INFORMATION: Each year Federal agencies create billions of records on paper, film, magnetic tape, and other media. To control this accumulation, agency records managers prepare schedules proposing retention periods for records and submit these schedules for NARA's approval, using the Standard Form (SF) 115, Request for Records Disposition Authority. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

The schedules listed in this notice are media neutral unless specified otherwise. An item in a schedule is media neutral when the disposition instructions may be applied to records regardless of the medium in which the records are created and maintained. Items included in schedules submitted to NARA on or after December 17, 2007, are media neutral unless the item is limited to a specific medium. (See 36 CFR 1225.12(e).)

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

Schedules Pending

1. Department of Agriculture, Forest Service (N1-95-10-9, 84 items, 66 temporary items). Records related to various programs throughout the agency, including general correspondence, reports, case files, plans, and studies. Proposed for permanent retention are law enforcement reports and plans; boundary modification case files; land transfer, title, and status files; significant controlled correspondence; aerial photographs; remote sensing data and imagery; maps; and channel and dam project design case files.

2. Department of Defense, Defense Contract Management Agency (N1-558-10-5, 13 items, 13 temporary items). Records relating to development of new electronic systems and operation of current systems. Included are mission requirements and specifications, technical reference models, information technology capital investment records, Web site management records, risk assessments, operational capability status reports, user support records, system security plans, and data copied from separately scheduled databases.

3. Department of the Interior, Bureau of Land Management (N1-49-10-2, 1 item, 1 temporary item). Bond case files relating to oil, gas, and geothermal lease and exploration.

4. Department of Justice, Agency-wide (DAA-0060-2012-0017, 1 item, 1 temporary item). Master files of an electronic information system used to manage routine financial activities.

5. Department of Justice, Federal Bureau of Investigation (N1-65-12-1, 3 items, 3 temporary items). Master files and related records of an electronic information system used to track notification preferences for victims of child pornography.

6. Department of Justice, Federal Bureau of Investigation (N1-65-12-4, 5 items, 5 temporary items). Records related to approval and management of overseas deployments.

7. Department of Justice, Office of the Inspector General (DAA-0060-2012-0019, 1 item, 1 temporary item). Work plan records for overseeing and managing audits.

8. Department of Justice, Office of Legal Policy (DAA-0060-2012-0009, 3 items, 2 temporary items). Files maintained for individuals considered but not confirmed for Federal judicial nomination. Proposed for permanent retention are nomination files for individuals confirmed as Federal judges.

9. Department of Labor, Bureau of Labor Statistics (N1-257-11-1, 55 items, 45 temporary items). Research and program development files, background materials, survey and working files, and information technology system files and reports. Proposed for permanent retention are planning documents and correspondence, labor estimates, study reports, publications, and procedure manuals.

10. Department of State, Bureau of Administration (DAA-0059-2012-0005, 6 items, 6 temporary items). Records related to student employment; standard operating procedures for day-to-day office administration; and memorandum of agreements with offices within the Department.

11. Department of State, Bureau of Diplomatic Security (DAA-0059-2011-0003, 7 items, 7 temporary items). Records include inventories and tracking systems for decontamination and radiological equipment, related training materials administered to post personnel, and associated program reviews.

12. Department of State, Bureau of Diplomatic Security (N1-59-11-17, 11 items, 11 temporary items). Record of the Defensive Equipment & Armored Vehicles Division, including requisition and procurement files, equipment inventories, and maintenance history.

13. Department of State, Bureau of Educational and Cultural Affairs (DAA-0059-2011-0015, 14 items, 13 temporary items). Records of the Office of English Language Programs, including teaching tools and administrative records. Proposed for permanent retention is a quarterly journal for teachers disseminated overseas via U.S. Embassies.

14. Department of Transportation, Federal Aviation Administration (N1-237-12-1, 1 item, 1 temporary item). Master files of an electronic information system containing aviation safety processes audit records, including audit notifications, assignments, activity plans, and reports.

15. Department of Transportation, Federal Railroad Administration (DAA-0399-2012-0001, 1 item, 1 temporary item). Non-selected employee applicant files.

16. Commodity Futures Trading Commission, Agency-wide (N1-180-12-2, 1 item, 1 temporary item). Records relating to the submission of whistleblower claims, including correspondence and memoranda. Records do not include investigative or enforcement files.

Dated: October 25, 2012.
Paul M. Wester, Jr.,
Chief Records Officer for the U.S. Government.

[FR Doc. 2012-27173 Filed 11-6-12; 8:45 am]

BILLING CODE 7515-01-P